MILLENNIUM CHALLENGE CORPORATION

[MCC FR 08-04]

Agency Information Collection Request; Comment Request

AGENCY: Millennium Challenge Corporation.

ACTION: 30 Day Notice.

SUMMARY: The Millennium Challenge Corporation, in accordance with the Paperwork Reduction Act of 1995, invites public comment on a proposed information collection request. Before a Federal agency can collect certain information from the public, it must receive approval from the Office of Management and Budget (OMB). Under procedures established by the Paperwork Reduction Act of 1995, before seeking OMB approval, Federal agencies must solicit public comment on proposed collections of information, including extensions and reinstatements of previously approved collections.

This document describes on collection of information which the Millennium Challenge Corporation intends to seek OMB approval.

DATES: Please submit comments by June 12, 2008.

ADDRESSES: To obtain copies of the supporting statement and any related forms for the proposed paperwork collections referenced above, email your request, including your address, phone number, Form/OMB number to Kellytj@mcc.gov, or call Thomas Kelly, Director, Economic Policy at (202) 521-3600. Written comments and recommendations for the proposed information collection must be received within 30-days of this notice, and directed to the Desk Officer at the following address:

OMB Desk Officer: David Rostker, OMB/ORIA, New Executive Office Building, Room 10235, Washington, DC 20503.

SUPPLEMENTARY INFORMATION: In compliance with the requirement of section 3506(c)(2)(A) of the Paperwork Reduction Act of 1995, as amended, the Millennium Challenge Corporation (MCC) is publishing the following summary of a proposed information collection for public comment. Interested persons are invited to send comments on: (i) The necessity and utility of the proposed collection of information for the proper performance of the agency's functions; (ii) the accuracy of the estimated burden; (iii) the quality, utility and clarity of the information to be collected; and (iv) the burden of the collection of information on those who are to respond, including various technological collection techniques or other forms of information technology to minimize the information collection burden.

Proposed Project: A survey of international development organizations to assist in measuring MCC's leadership role in development practice. This survey, conducted by an independent organization, will become a part of MCC's data measuring its performance under the provisions of the Government Performance Results Act of 1993. It will seek to measure how MCC is affecting change in the manner development assistance is administered by other organizations providing similar assistance.

Abstract:

Type of Information Collection Request: New Request.

Title of Information Collection: Leadership in Development Assistance Survey.

Use: The Millennium Challenge Act of 2003 (Pub. L. 108-199) established the Millennium Challenge Corporation (MCC) to reduce poverty through sustainable economic growth to poor countries demonstrating through their policy performance their commitment to good governance. One of MCC's strategic goals, as stated in its strategic plan developed pursuant to GPRA, is to “advance the international development practice.” This survey will gather information regarding how MCC's unique model of assistance is impacting the development assistance community. In particular, it will measure whether other organizations recognize the distinguishing characteristics of MCC's approach to providing foreign assistance, whether they believe that MCC's approach represents best practice, and whether they are modifying their own assistance programs to include elements of MCC's approach. The survey will be conducted by phone to organizations and individuals selected by MCC. Data gathered by the independent survey will be provided to MCC for the purpose of assessing its performance with respect to the above-stated strategic goal.

Frequency: Biannual.

Affected Public: International donors, Foundations, Think Tanks, Academicians.

Biannual Number of Respondents: 300.

Total Biannual Responses: 300.

Average Burden per Response: 10 minutes.

Total Biannual Hours: 50 hours.

Authority: The Paperwork Reduction Act of 1995 and 5 CFR 1320.8(d).

Dated: April 22, 2008.
William G. Anderson, Jr.,
Vice President and General Counsel, Millennium Challenge Corporation.

[FR Doc. E8-9536 Filed 4-30-08; 8:45 am]

BILLING CODE 9211-03-P